DEPARTMENT OF ENERGY

Notice of Intent To Prepare an Environmental Impact Statement for a Proposed Federal Loan Guarantee To Support Construction and Start-up of the Taylorville Energy Center in Taylorville, IL

AGENCY: Department of Energy, Loan Guarantee Program.

ACTION: Notice of intent to prepare an environmental impact statement and conduct a public scoping meeting.

SUMMARY: The U.S. Department of Energy (DOE) announces its intent to prepare an environmental impact statement (EIS) pursuant to the National Environmental Policy Act of 1969, as amended (NEPA), the Council on Environmental Quality (CEQ) NEPA regulations, and the DOE NEPA implementing procedures to assess the potential environmental impacts for its proposed action of issuing a Federal loan guarantee to Christian County Generation, L.L.C. (CCG) (DOE/EIS-0430). CCG submitted an application to DOE under the Federal loan guarantee program pursuant to the Energy Policy Act of 2005 (EPAct 2005) to support construction and start-up of the Taylorville Energy Center in Taylorville, Illinois (“the Facility”).¹

¹ The amount requested for the loan guarantee is not being disclosed at this time because it is business sensitive. Moreover, should DOE approve a loan guarantee, the amount may differ from the original request.

CCG is a limited liability company that is currently owned by Tenaska Taylorville, LLC, an affiliate of Tenaska, Inc., an Omaha, Nebraska-based power development company, and by MDL Holding Company, L.L.C. of Louisville, Kentucky. CCG proposes to develop the Facility on an 886-acre parcel of land. As proposed, the approximately 730 megawatt (gross) electric generation Facility would utilize integrated gasification combined-cycle technology to produce electricity from Illinois bituminous coal. Synthesis gas processing would also allow the separation and capture of carbon dioxide (CO2) and the manufacture of pipeline-quality Substitute Natural Gas (“SNG” or “methane”). SNG would be used in a power block with two combustion turbines and one steam turbine. The Facility would be designed such that surplus SNG can be transported offsite to an interstate pipeline for sale. The Facility would capture at least 50 percent of the CO2 and over 99 percent of the sulfur compounds that would otherwise be emitted. The CO2 stream would be compressed and delivered at the fenceline to another party for pipeline transport to enhanced oil recovery operations and geologic storage. CCG is also studying the feasibility of geologic storage of CO2 in the vicinity of the site.

The EIS will evaluate the potential impacts of the issuance of a DOE Loan Guarantee for CCG's proposed project and the range of reasonable alternatives. The purpose of this Notice of Intent is to inform the public about DOE's proposed action; invite public participation in the EIS process; announce plans for a public scoping meeting; and solicit public comments for consideration in establishing the scope and content of the EIS. DOE invites those agencies with jurisdiction by law or special expertise to be cooperating agencies.

DATES: To ensure that all of the issues related to this proposal are addressed, DOE invites comments on the proposed scope and content of the EIS from all interested parties. Comments must be postmarked or emailed by November 9, 2009 to ensure consideration. Late comments will be considered to the extent practicable. In addition to receiving written comments (see ADDRESSES below), DOE will conduct a public scoping meeting in the vicinity of the proposed Facility at which government agencies, private-sector organizations, and the general public are invited to provide comments or suggestions with regard to the alternatives and potential impacts to be considered in the EIS. The date, time, and location of the public scoping meeting will be announced in local news media and on the DOE Loan Guarantee Program's “NEPA Public Involvement” Web site (http://www.lgprogram.energy.gov/NEPA-2.html) at least 15 days prior to the date of the meeting.

ADDRESSES: Public comments can be submitted electronically or by U.S. Mail. Written comments on the proposed EIS scope should be addressed to: Ms. Angela Colamaria, Loan Guarantee Program Office (CF-1.3), U.S. Department of Energy, 1000 Independence Avenue, SW., Washington, DC 20585. Please submit one signed original paper copy. Electronic submission of comments is encouraged due to processing time required for regular mail. Comments can be submitted electronically by sending an email to: TEC-EIS@hq.doe.gov. All electronic and written comments should reference Project No. DOE/EIS-0430.

FOR FURTHER INFORMATION CONTACT: To obtain additional information about this EIS, the public scoping meeting, or to receive a copy of the draft EIS when it is issued, contact Angela Colamaria by telephone: 202-287-5387; toll-free number: 800-832-0885 ext. 75387; or electronic mail: Angela.Colamaria@hq.doe.gov. For general information on the DOE NEPA process, please contact: Ms. Carol M. Borgstrom, Director, Office of NEPA Policy and Compliance (GC-20), U.S. Department of Energy, 1000 Independence Avenue, SW., Washington, DC 20585; telephone: 202-586-4600; facsimile: 202-586-7031; electronic mail: askNEPA@hq.doe.gov; or leave a toll-free message at 800-472-2756.

SUPPLEMENTARY INFORMATION:

Background

EPAct 2005 established a Federal loan guarantee program for eligible energy projects that employ innovative technologies. Title XVII of EPAct 2005 authorizes the Secretary of Energy to make loan guarantees for a variety of types of projects, including those that “avoid, reduce, or sequester air pollutants or anthropogenic emissions of greenhouse gases; and employ new or significantly improved technologies as compared to commercial technologies in service in the United States at the time the guarantee is issued.” A principal goal of the loan guarantee program is to encourage commercial use in the United States of new or significantly improved energy-related technologies. DOE believes that accelerated commercial use of these new or improved technologies will help to sustain economic growth, yield environmental benefits, and produce a more stable and secure energy supply.

Purpose and Need for Agency Action

CCG submitted a Part I application to DOE for a loan guarantee on December 19, 2008, and submitted a Part II application on March 23, 2009. The purpose and need for agency action is to comply with DOE's mandate under Title XVII of EPAct 2005 by selecting eligible projects that meet the goals of the Act. DOE is using the NEPA process to assist in determining whether to issue a loan guarantee to CCG to support the proposed project.

Proposed Action

DOE's proposed action is to issue a loan guarantee to CCG to support the construction and start-up of the Taylorville Energy Center in Taylorville, Illinois.

The site of the proposed Facility consists of an 886-acre parcel of land located in Taylorville, Illinois. Of the 886 acres, CCG currently owns or controls via option agreements 713 acres, and is attempting to option approximately 173 additional, contiguous acres. The site and additional acreage to be acquired is bounded by County Road E1700N on the north, State Road 48 (and the Norfolk Southern Railroad) on the east, farmland on the south, and County Road N1400E on the west.

As proposed, the Facility would manufacture pipeline quality SNG from Illinois bituminous coal and produce electricity utilizing integrated gasification combined-cycle technology. The Facility is expected to use 7,500 tons of coal per day (2.5 million tons of coal annually). The primary water supply would be municipal treated effluent from a local sanitary district.

The Facility is expected to contribute 2 billion kilowatt-hours per year to the electric grid system. SNG would be used to fuel a power block with two combustion turbines and one steam turbine. The amount of SNG produced may exceed the requirements of the power block under certain operating conditions. The Facility would be designed such that surplus SNG can be transported offsite to an interstate pipeline for sale.

The Facility would capture at least 50 percent of the CO2 and over 99 percent of the sulfur compounds that would otherwise be emitted. The CO2 stream would be compressed and delivered at the fenceline to another party for pipeline transport to enhanced oil recovery operations and geologic storage at a location to be determined by the off-taker. CCG is also studying the feasibility of geologic storage in the vicinity of the site using the Mt. Simon formation.

Supporting infrastructure and facilities would include local access roads, rail interconnections, water supply and wastewater pipelines, CO2 pipelines, a natural gas pipeline, and a high voltage transmission line to connect the Facility to the electric grid system. Rail access to the site would be provided by construction of a rail connection to the Norfolk Southern Railroad east of the site. Coal may also be delivered by truck. Approximately 6 miles of County Road E1700N would be reconstructed and enhanced to 80,000 lbs. gross vehicle weight standards. DOE plans to analyze the impacts of construction and operation of the supporting infrastructure and facilities in the EIS.

The Facility would eliminate process wastewater entirely through use of water treatment, recycling, and zero liquid discharge systems. Solid waste (slag) and sulfur, by-products from the process, would be sold as a commercial product, disposed of onsite, or transported offsite for disposal at a non-hazardous, solid waste landfill. The construction work force would peak at up to 1,500 construction workers over a 4-year period. The Facility would be operated and maintained by a staff of approximately 145 employees and contractors.

Coal gasification and electric generation components of the Facility would be constructed on approximately 70 acres of the site. The site is currently used for agriculture (row crops), is surrounded by farmland, and is zoned for industrial and agricultural use. The coal gasification and electric generation components of the Facility are entirely within property that is zoned for industrial use. In addition, several hundred acres of Prime Farmland within the 886-acre parcel could be affected by the construction of the Facility. Preliminary assessments indicate that the footprint of the proposed facility would not affect any wetlands or floodplains. In the event that further analysis indicates that wetlands or floodplains would be affected, DOE will prepare a floodplain and wetland assessment in accordance with its regulations at 10 CFR part 1022 and include the assessment in the EIS.

Alternatives

In determining the range of reasonable alternatives to be considered in the EIS for the proposed CCG Facility, DOE identified the reasonable alternatives that would satisfy the underlying purpose and need for agency action. DOE currently plans to analyze in detail the project proposed by CCG and the no action alternative. DOE will also analyze design options available to CCG within the scope of the project (e.g., various methods for disposition of slag and sulfur and transportation of coal) and mitigation measures as appropriate.

Under the no action alternative, DOE would not provide the loan guarantee for the CCG project and the project would not be constructed as part of the DOE loan guarantee program. This option would not contribute to the Federal loan guarantee program goals to make loan guarantees for energy projects that “avoid, reduce, or sequester air pollutants or anthropogenic emissions of greenhouse gases; and employ new or significantly improved technologies.”

Preliminary Identification of Environmental Issues

The following environmental resource areas have been tentatively identified for consideration in the EIS. This list is neither intended to be all-inclusive nor a predetermined set of potential environmental impacts:

• Air quality;

• Greenhouse gas emissions and climate change;

• Energy use and production;

• Water resources, including groundwater and surface waters;

• Wetlands and floodplains;

• Geological resources;

• Ecological resources, including threatened and endangered species and species of special concern;

• Cultural resources, including historic structures and properties; sites of religious and cultural significance to tribes; and archaeological resources;

• Land use;

• Visual resources and aesthetics;

• Transportation and traffic;

• Noise and vibration;

• Hazardous materials and solid waste management;

• Human health and safety;

• Accidents and terrorism;

• Socioeconomics, including impacts to community services;

• Environmental justice.

DOE invites comments on whether other resource areas or potential issues should be considered in the EIS.

Public Scoping Process

To ensure that all issues related to DOE's proposed action are addressed, DOE seeks public input to define the scope of the EIS. The public scoping period will begin with publication of the NOI and end on November 9, 2009. Interested government agencies, private-sector organizations, and the general public are encouraged to submit comments concerning the content of the EIS, issues and impacts to be addressed in the EIS, and alternatives that should be considered. Scoping comments should clearly describe specific issues or topics that the EIS should address to assist DOE in identifying significant issues. Comments must be postmarked or e-mailed by November 9, 2009 to ensure consideration. (See ADDRESSES above). Late comments will be considered to the extent practicable. DOE invites those agencies with jurisdiction by law or special expertise to be cooperating agencies.

A public scoping meeting will be held at a date, time, and location to be determined. Notice of this meeting will be provided in local news media and on the DOE Loan Guarantee Program's “NEPA Public Involvement” Web site (http://www.lgprogram.energy.gov/NEPA-2.html) at least 15 days prior to the date of the meeting. Members of the public and representatives of groups and Federal, State, local, and tribal agencies are invited to attend. The meeting will include both a formal opportunity to present oral comments and an informal session during which DOE and CCG personnel will be available for discussions with attendees. Displays and other forms of information about the proposed agency action, the EIS process, and the CCG proposed Facility will also be available for review. DOE requests that anyone who wishes to present oral comments at the meeting contact Ms. Colamaria by phone or e-mail (see ADDRESSES above). Individuals who do not make advance arrangements to speak may register at the meeting. Speakers who need more than five minutes should indicate the length of time desired in their request. DOE may need to limit speakers to five minutes initially, but will provide additional opportunities as time permits. Written comments regarding the scoping process can also be submitted to DOE officials at the scoping meeting.

Issued in Washington, DC, on October 6, 2009.
Steve Isakowitz,
Chief Financial Officer, Office of the Chief Financial Officer.

[FR Doc. E9-24422 Filed 10-8-09; 8:45 am]

BILLING CODE 6450-01-P